DEPARTMENT OF HOMELAND SECURITY

Coast Guard

33 CFR Part 100

[Docket No. USCG-2024-0322]

RIN 1625-AA08

Special Local Regulations; Marine Events Within the Fifth Coast Guard District

AGENCY: Coast Guard, Department of Homeland Security (DHS).

ACTION: Notification of enforcement of regulation.

SUMMARY: The Coast Guard will enforce special local regulations for a recurring marine event in the Fifth Coast Guard District to provide for the safety of life on navigable waterways from June 7 to 9, 2024. Our regulation for marine events within the Fifth Coast Guard District identifies the regulated area for this event (the Ocean City Offshore Grand Prix) in Ocean City, MD. During the enforcement periods, the operator of any vessel in the regulated area must comply with directions from the Patrol Commander or any Official Patrol displaying a Coast Guard ensign.

DATES: The regulations in 33 CFR 100.501 for the Ocean City Offshore Grand Prix will be enforced from 9 a.m. until 5 p.m., each day from June 7, 2024, through June 9, 2024.

FOR FURTHER INFORMATION CONTACT: If you have questions about this notification of enforcement, call, or email LCDR Kate Newkirk, Waterways Management Division, Sector Maryland-National Capital Region, U.S. Coast Guard; telephone (410) 579-2519, email Kate.M.Newkirk@uscg.mil.

SUPPLEMENTARY INFORMATION: The Coast Guard will enforce special local regulations in 33 CFR 100.501 for the Ocean City Offshore Grand Prix regulated area from 9 a.m. to 5 p.m. on June 7th, 8th, and 9th, 2024. Although § 100.501 provides enforcement periods for this event in May and September, paragraph (g) of that section states that an event may be conducted within 30 days before or after the date(s) listed, and that changes to the enforcement period(s) for that event will be noticed in the Federal Register and announced in the Local Notices to Mariners and Broadcast Notice to Mariners. The June enforcement periods provide for the safety of life on navigable waterways during this 3-day powerboat event. Table 2 to paragraph (i)(2) of § 100.501 specifies the exact location of the regulated area, which is in Ocean City, MD. As provided in paragraph (c) of § 100.501, the operators of vessels in the regulated area must comply with directions from the Patrol Commander or any Official Patrol displaying a Coast Guard ensign.

In addition to this notification of enforcement in the Federal Register, the Coast Guard plans to provide notification of this enforcement period via the Local Notice to Mariners, marine information broadcasts, local radio stations and area newspapers.

Dated: April 12, 2024.
David E. O'Connell,
Captain, U.S. Coast Guard, Captain of the Port Sector Maryland-National Capital Region.

[FR Doc. 2024-08214 Filed 4-16-24; 8:45 am]

BILLING CODE 9110-04-P